ENVIRONMENTAL PROTECTION AGENCY

[FRL-7011-8]

Proposed Past Cost Administrative Settlement Under Section 122(h)(1) of the Comprehensive Environmental Response Compensation and Liability Act; In the Matter of Westinghouse Electric Corporation Facility, Bloomington, Monroe County, Indiana

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the ABB/Westinghouse Electric Corporation Plant site in Bloomington, Monroe County, Indiana, with Viacom Inc., f/k/a/ CBS Corporation, f/k/a/ Westinghouse Electric Corporation. The settlement requires Viacom Inc. to pay $940,398.47 to the Hazardous Substance Superfund, which represents 100% of U.S. EPA's documented past costs.

Under the terms of the settlement, Viacom Inc. agrees to pay the settlement amount. In exchange for its payment, the United States covenants not to sue or take administrative action pursuant to section 107(a) of CERCLA, 42 U.S.C. 9607(a), relating to the Site. In addition, Viacom Inc. is entitled to protection from contribution actions or claims as provided by sections 113(f) and 122(h)(4) of CERCLA, 42 U.S.C. 9613(f) and 9622(h)(4), for all response costs incurred and to be incurred by any person at the Site.

For thirty (30) days after the date of publication of this notice, the Agency will receive written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois 60604, and at the Monroe County Public Library in Bloomington, Indiana.

DATES: Comments must be submitted on or before August 13, 2001.

ADDRESSES: The proposed settlement is available for public inspection at EPA's Record Center, 7th floor, 77 W. Jackson Blvd., Chicago, Illinois 60604. A copy of the proposed settlement may be obtained from Jeffrey A. Cahn, Associate Regional Counsel, U.S. EPA, Mail Code C-14J, 77 W. Jackson Blvd., Chicago, Illinois 60604, telephone (312) 886-6670. Comments should reference the Westinghouse Electric Corporation Facility site, Bloomington, Monroe County, Indiana, and EPA Docket No. V-W-01-C-638, and should be addressed to Jeffrey A. Cahn, Associate Regional Counsel, U.S. EPA, Mail Code C-14J, 77 W. Jackson Blvd., Chicago, Illinois 60604.

FOR FURTHER INFORMATION CONTACT: Jeffrey A. Cahn, Associate Regional Counsel, U.S. EPA, Mail Code C-14J, 77 W. Jackson Blvd., Chicago, Illinois 60604, telephone (312) 886-6670.

Authority: The Comprehensive Environmental Response, Compensation, and Liability Act of 1980, as amended, 42 U.S.C. 9601, et seq.

Dated: June 11, 2001.
William E. Muno,
Director, Superfund Division.

[FR Doc. 01-17631 Filed 7-12-01; 8:45 am]

BILLING CODE 6560-50-P